DEPARTMENT OF ENERGY

Federal Energy Regulatory Commission

[Docket No. CP25-528-000]

Eastern Gas Transmission and Storage, Inc; Notice of Schedule for the Preparation of an Environmental Assessment for the Appalachian Reliability Project

On July 24, 2025, Eastern Gas Transmission and Storage, Inc. (EGTS) filed an application in Docket No. CP25-528-000 requesting a Certificate of Public Convenience and Necessity pursuant to Section 7(c) of the Natural Gas Act to construct and operate certain natural gas pipeline facilities. The proposed project is known as the Appalachian Reliability Project (Project) and would allow EGTS to provide about 550,000 dekatherms per day of additional firm natural gas transportation service to points along the interstate pipeline grid in Ohio and Pennsylvania.

On August 7, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EA-XX-019-20-000-1756811530.

Schedule for Environmental Review

Issuance of EA February 27, 2026

90-day Federal Authorization Decision Deadline ² May 28, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

EGTS proposes to construct and operate about 3.9 miles of interstate natural gas transmission pipeline and modify its existing compression and metering regulation facilities in Armstrong, Greene and Westmoreland Counties, Pennsylvania, and Monroe County, Ohio.

Background

On September 4, 2025, the Commission issued a Notice of Scoping Period Requesting Comments on Environmental Issues for the Proposed Appalachian Reliability Project (Notice of Scoping). The Notice of Scoping was sent to affected landowners; federal, state, and local government agencies; elected officials; environmental and public interest groups; Native American tribes; other interested parties; and local libraries and newspapers. Prior to issuing the Notice of Scoping, we received numerous comments supporting the Project. In response to the Notice of Scoping, we received eight comments. We received comments from three landowners, two non-profit organizations; Protect PT (Penn-Trafford) and the Clean Air Council, the Teamsters National Pipeline Labor Management Cooperation Trust, the Energy Equipment and Infrastructure Alliance, and the Monroe County, OH Board of County Commissioners. The primary issues raised by the commenters concern noise and air emissions from the JB Tonkin Compressor Station and their effects on air quality, nearby residences, and public health, the Project's potential effects on agricultural and livestock lands and business operations, streams and wetlands, and federally protected threatened and endangered species. We also received comments concerning the purpose and need for the Project, environmental justice, past EGTS' air permit compliance issues, and alternatives. Lastly, we received a request to hold in-person public scoping sessions. Given the limited scope of the Project, we determined that our solicitation of written comments was sufficient. The Teamsters National Pipeline Labor Management Cooperation Trust, the Energy Equipment and Infrastructure Alliance, and the Monroe County, OH Board of County Commissioners all submitted comments supporting the Project. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-528), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 8, 2025.
Debbie-Anne A. Reese,
Secretary.

[FR Doc. 2025-20698 Filed 11-21-25; 8:45 am]

BILLING CODE 6717-01-P